DEPARTMENT OF TRANSPORTATION

Federal Aviation Administration

Request for Public Comment, Elkins Randolph County Airport, Elkins, WV

AGENCY: Federal Aviation Administration (FAA), DOT.

ACTION: Request for public comment.

SUMMARY: The Federal Aviation Administration is requesting public comment on the proposed release of 5.67 acres of land currently owned by the Elkins Randolph County Airport, Elkins, West Virginia. The parcel is located at Chenoweth Creek; Beverly District, Elkins, West Virginia. The property is undeveloped and is not needed for aeronautical purposes. Once released, the land will be exchanged for 5.67 acres of land situated within the approach of Runway 23. This property is to be exchanged to facilitate Runway Protection Zone requirements. The airport land being released is not needed for airport development as shown on the Airport Layout Plan. Fair Market Value of the land has been established for the land exchange between the Elkins Randolph Airport and the aforementioned property.

DATES: Comments must be received on or before June 13, 2008.

ADDRESSES: Comments on this application may be mailed or delivered in triplicate to the FAA at the following address: Connie Boley-Lilly, Program Specialist, Federal Aviation Administration, Beckley Airports Field Office, 176 Airport Circle, Room 101, Beaver, West Virginia 25813.

In addition, one copy of any comments submitted to the FAA must be mailed or delivered to Joe Biola, President of the Elkins Randolph County Airport Authority, Elkins Randolph County Airport at the following address:

Joe Biola, President, Elkins Randolph County Airport Authority, Elkins Randolph County Airport, Rt. 1, Box 271-1, Elkins, West Virginia 26241.

FOR FURTHER INFORMATION CONTACT: Connie Boley-Lilly, Program Specialist, Beckley Airport Field Office, (304) 252-6216 ext. 125, FAX (304) 253-8028.

SUPPLEMENTARY INFORMATION: On April 5, 2000, new authorizing legislation became effective. That bill, the Wendell H. Ford Aviation investment and Reform Act for the 21st Century, Public Law 10-181 (April 5,2000; 114 Stat. 61) (AIR 21) requires that a 30 day public notice must be provided before the Secretary may waive any condition imposed on an interest in surplus property.

Issued in Beckley, West Virginia on April 29, 2008.
Matthew P. DiGiulian,
Manager, Beckley Airport Field Office, Eastern Region.

[FR Doc. E8-10428 Filed 5-13-08; 8:45 am]

BILLING CODE 4910-13-M